DEPARTMENT OF TRANSPORTATION

Federal Aviation Administration

Notice of Passenger Facility Charge (PFC) Approvals and Disapprovals

AGENCY: Federal Aviation Administration (FAA), DOT.

ACTION: Monthly notice of PFC approvals and disapprovals.

In May 2007, there were seven applications approved. This notice also includes information on four applications, one approved in February 2007 and the other three approved in April 2007, inadvertently left off the February 2007 and April 2007 notices, respectively. Additionally, 12 approved amendments to previously approved applications are listed.

SUMMARY: The FAA publishes a monty notice, as appropriate, of PFC approvals and disapprovals under the provisions of the Aviation Safety and Capacity Expansion Act of 1990 (Title IX of the Omnibus Budget Reconciliation Act of 1990) (Pub. L. No. 101-508) and Part 158 of the Federal Aviation Regulations (14 CFR Part 158). This notice is published pursuant to paragraph d of § 158.29.

PFC Applications Approved

Public Agency: City of Little Rock, Arkansas.

Application Number: 07-06-C-00-LIT.

Application Type: Impose and use a PFC.

PFC Level: $4.50.

Total PFC Revenue Approved in this Decision: $21,763,270.

Earliest Charge Effective Date: May 1, 2007.

Estimated Charge Expiration Date: January 1, 2011.

Class of Air Carriers Not Required To Collect PFC's: Air taxi/commercial operators filing FAA Form 1800-31.

Determination: Approved. Based on information contained in the public agency's application, the FAA has determined that the proposed class accounts for less than 1 percent of the total annual enplanements at Little Rock National Airport.

Brief Description of Projects Approved for Collection and Use:

In-line baggage system.

Improve airport drainage—phase II.

Taxiway in-pavement edge and centerline lights.

Interactive employee training system.

Friction testing vehicle.

Terminal planning documents.

Brief Description of Project Partially Approved for Collection and Use: Passenger loading bridge acquisition and replacement.

Determination: The acquisition of a loading bridge for gate No. 8 is not approved. The public agency did not provide adequate information to confirm that it could meet the requirements of Part 158, Assurance No. 8 for this loading bridge.

Decision Date: February 27, 2007.

For Further Information Contact: Glenn Boles, Arkansas/Oklahoma Airports Development Office, (817) 222-5661.

Public Agency: County of Houghton, Calumet, Michigan.

Application Number: 07-11-C-00-CMX.

Application Type: Impose and use a PFC.

PFC Level: $4.50.

Total PFC Revenue Approved in this Decision: $464,744.

Earliest Charge Effective Date: November 2, 2007.

Estimated Charge Expiration Date: February 1, 2013.

Class of Air Carriers Not Required to Collect PFC's: None

Brief Description of Projects Approved for Collection and Use:

Vegetation removal to reduce wildlife habitat.

Air service grant for airport security.

FAA navigational aids.

Rehabilitate taxiway B.

Snow removal equipment procurement (motor grader).

Terminal study, cost benefit analysis.

Master plan study airport layout plan update.

Pavement management program report.

Rehabilitate/relocate airport entrance road.

Snow removal equipment procurement (material spreader).

PFC preparation reimbursement.

PFC audit reimbursement.

Firearm procurement.

Fire inspection program.

Brief Description of Project Approved for Collection: Remove sewage lagoons.

Decision Date: April 12, 2007.

For Further Information Contact: Jason Watt, Detroit Airports District Office, (734) 239-2906.

Public Agency: County of Gogebic, Ironwood, Michigan.

Application Number: 07-02-C-00-IWD.

Application Type: Impose and use a PFC.

PFC Level: $4.50.

Total PFC Revenue Approved in This Decision: $133,060.

Earliest Charge Effective Date: June 1, 2007.

Estimated Charge Expiration Date: February 1, 2017.

Class of Air Carriers Not Required To Collect PFC's: Charter and air taxi operators.

Determination: Approved. Based on information contained in the public agency's application, the FAA has determined that the proposed class accounts for less than 1 percent of the total annual enplanements at Gogebic—Iron County Airport.

Brief Description of Projects Approved for Collection and Use:

Airport layout plan.

Environmental assessment and preliminary design engineering.

Security fencing.

Environmental assessment and preliminary design engineering for crosswind runway phase 2 and wildlife study.

Acquire snow removal equipment.

Passenger parking lot.

Acquire meter friction tester, wind cones, and fire suits.

Acquire and install 12,000-gallon Jet A fuel tank.

Decision Date: April 27, 2007.

For Further Information Contact: Jason Watt, Detroit Airports District Office, (734) 229-2906.

Public Agency: John Murtha Johnstown—Cambria County Airport Authority, Johnstown, Pennsylvania.

Application Number: 07-05-C-00-JST.

Application Type: Impose and use a PFC.

PFC Level: $4.50.

Total PFC Revenue Approved in This Decision: $132,000.

Earliest Charge Effective Date: July 1, 2007.

Estimated Charge Expiration Date: April 1, 2010.

Class of Air Carriers Not Required To Collect PFC's: Nonscheduled/on demand air carriers filing FAA Form 1800-31.

Determination: Approved. Based on information contained in the public agency's application, the FAA has determined that the proposed class accounts for less than 1 percent of the total annual enplanements at Johnstown—Cambria County Airport.

Brief Description of Project Approved for Collection and Use: Terminal building construction.

Decision Date: April 30, 2007.

For Further Information Contact: Lori Ledebohm, Harrisburg Airports District Office, (717) 730-2835.

Public Agency: City of Hailey and County of Blaine, Hailey, Idaho.

Application Number: 07-06-C-00-SUN.

Application Type: Impose and use a PFC.

PFC Level: $4.50.

Total PFC Revenue Approved in This Decision: $691,368.

Earliest Charge Effective Date: August 1, 2007.

Estimated Charge Expiration Date: December 1, 2009.

Class of Air Carriers Not Required To Collect PFC's: Air taxi/commercial operators.

Determination: Approved. Based on information contained in the public agency's application, the FAA has determined that the proposed class accounts for less than 1 percent of the total annual enplanements at Friedman Memorial Airport.

Brief Description of Projects Approved for Collection and Use:

Runway safety area improvements.

Runway 13/31 reconstruction.

Environmental Impact statement (phase 1) for replacement airport.

Security enhancements.

PFC administrative costs for application 05-05.

PFC administrative costs for application 07-06.

Decision Date: May 3, 2007.

For Further Information Contact: Suzanne Lee-Pang, Seattle Airports District Office, (425) 227-2654.

Public Agency: City of Naples Airport Authority, Naples, Florida.

Application Number: 07-05-C-00-APF.

Application Type: Impose and use a PFC.

PFC Level: Not applicable.

Total PFC Revenue Approved in This Decision: $92,000.

Earliest Charge Effective Date: Decision uses excess PFC revenue—no new collections authorized.

Estimated Charge Expiration Date: Not applicable.

Class of Air Carriers Not Required To Collect PFC's: None.

Brief Description of Projects Approved for Collection and Use:

Rehabilitate taxiway B (design).

Decision Date: May 8, 2007.

For Further Information Contact: Susan Moore, Orlando Airports District Office, (407) 812-6331, extension 120.

Public Agency: Metropolitan Nashville Airport Authority, Nashville, Tennessee.

Application Number: 07-13-C-00-BNA.

Application Type: Impose and use a PFC.

PFC Level: $3.00.

Total PFC Revenue Approved in This Decision: $19,250,588.

Earliest Charge Effective Date: June 1, 2011.

Estimated Charge Expiration Date: November 1, 2011.

Class of Air Carriers Not Required To Collect PFC's: Air taxi/commercial operators filing FAA Form 1800-31.

Determination: Approved. Based on information contained in the public agency's application, the FAA has determined that the proposed class accounts for less than 1 percent of the total annual enplanements at Nashville International Airport.

Brief Description of Projects Approved for Collection and Use:

Security checkpoint (design and construction).

Terminal renovation.

Reconstruct taxiway Bravo south (design).

Reconstruct taxiway Alpha south (design).

Outbound baggage conveyor system (design and construction).

Access control system replacement (design and construction).

Construct 2L/20R runway safety area.

Pavement management and modification of standards identification study.

Runway weather information system.

Construct 2R/20L runway safety area.

Land acquisition for Elm Hill Pike.

Aircraft flight track monitoring system.

Decision Date: May 10, 2007.

For Further Information Contact: Peggy Kelley, Memphis Airports District Office, (901) 322-8186.

Public Agency: Airport Authority of Washoe County, Reno, Nevada.

Application Number: 07-10-C-00-RNO.

Application Type: Impose and use a PFC.

PFC Level: $4.50.

Total PFC Revenue Approved in This Decision: $32,878,000.

Earliest Charge Effective Date: December 1, 2007.

Estimated Charge Expiration Date: December 1, 2010.

Classes of Air Carriers Not Required To Collect PFC's: (1) Nonscheduled/on demand air carriers filing FAA Form 1800-31; and (2) commuter or small certificated air carriers filing Form T-100.

Determination: Approved. Based on information contained in the public agency's application, the FAA has determined that each proposed class accounts for less than 1 percent of the total annual enplanements at Reno/Tahoe International Airport.

Brief Description of Projects Approved for Collection and Use at a $4.50 PFC Level:

Jet bridge equipment upgrade.

South air cargo ramp—phase 1.

Brief Description of Project Approved for Collection and Use at a $3.00 PFC Level: Concourse elbow build out phase II.

Brief Description of Project Partially Approved for Collection and Use at $3.00 PFC Level: Acquire replacement snow removal equipment.

Decision Date: May 11, 2007.

For Further Information Contact: Ronald Biaco, San Francisco Airports District Office, (650) 876-2778, extension 626.

Public Agency: Metropolitan Topeka Airport Authority, Topeka, Kansas.

Application Number: 07-01-C-00-FOE.

Application Type: Impose and use a PFC.

PFC Level: $4.50.

Total PFC Revenue Approved in This Decision: $823,720.

Earliest Charge Effective Date: August 1, 2007.

Estimated Charge Expiration Date: March 1, 2023.

Class of Air Carriers Not Required To Collect PFC's: None.

Brief Description of Projects Approved for Collection and Use:

Overlay ramp north of terminal.

Auxiliary generator.

Airfield signage.

Snow removal equipment.

Aircraft rescue and firefighting equipment.

Runway 13/31 rehabilitation.

Airport master plan update.

Foreign object debris sweeper.

Taxiways A, B, C, and D rehabilitation.

PFC application and administration fees.

Decision Date: May 18, 2007.

For Further Information Contact: Jeffrey Deitering, Central Region Airports Division, (816) 329-2637.

Public Agency: City and Borough of Sitka, Alaska.

Application Number: 07-01-C-00-SIT.

Application Type: Impose and use a PFC.

PFC Level: $4.50.

Total PFC Revenue Approved in This Decision: $1,100,000.

Earliest Charge Effective Date: July 1, 2007.

Estimated Charge Expiration Date: June 1, 2012

Class of Air Carriers Not Required to Collect PFC's: None.

Brief Description of Projects Approved for Collection and Use: Rehabilitate terminal building.

Decision Date: May 21, 2007.

For Further Information Contact: John Lovett, Alaska Region Airports Division, (907) 271-5446.

Public Agency: Niagara Frontier Transportation Authority, Buffalo, New York.

Application Number: 07-06-C-00-BUF.

Application Type: Impose and use a PFC.

PFC Level: $4.50.

Total PFC Revenue Approved in This Decision: $75,389,056.

Charge Effective Date for $3.00 Collections: October 1, 2005.

Earliest Charge Effective Date for $4.50 Collections: August 1, 2007.

Estimated Charge Expiration Date: August 1, 2011.

Class of Air Carriers Not Required to Collect PFC's: Air taxi/commercial operators filing FAA Form 1800-31.

Determination: Approved. Based on information contained in the public agency's application, the FAA has determined that the proposed class accounts for less than 1 percent of the total annual enplanements at Buffalo Niagara International Airport (BUF).

Brief Description of Projects Approved for Collection at BUF and Use at BUF at a $4.50 PFC Level:

Purchase safety equipment—aircraft rescue and firefighting/emergency response vehicles.

Design and construction, extension and rehabilitation of runway 5/23.

Design and construction, extension and rehabilitation of taxiway A.

Automatic baggage system.

Design and construction of a water quality treatment and improvement system.

Design and implement noise mitigation measures.

Brief Description of Projects Approved for Collection at BUF and Use at BUF at a $3.00 PFC Level:

Relocation of security checkpoints.

Runway 14/32 safety improvements and relocate remote fuel dispensing facility.

Passenger movement equipment.

Upgrade security badging system.

PFC planning and program administration.

Series 1999 debt service—east concourse terminal extension and apron expansion, and east access improvements.

Design and construction, extension of runway 14/32.

Design and construction, extension, widening, and rehabilitation of taxiway D.

Design and construction, overhead canopies for pedestrian walkways.

Purchase of surface friction testing equipment.

Internal perimeter road extension.

PFC planning and program administration.

Brief Description of Project Partially Approved for Collection at BUF and Use at BUF at a $3.00 PFC Level: Procurement of security equipment—vehicles.

Determination: Two K-9 vehicles and a “captain's vehicle” were found to be ineligible because the public agency did not provide documentation that the Transportation Security Administration had concurred that these vehicles were a part of the minimum amount of equipment needed to meet the approved security plan.

Brief Description of Project Approved for Collection at BUF and Use at BUF and at Niagara Falls International Airport at a $3.00 PFC Level: Purchase snow removal equipment.

Brief Description of Disapproved Project: PFC planning and program administration.

Determination: The public agency included this project as a part of an amendment request. However, this project was not included in the original decision and a public agency cannot add a new project by amendment.

Decision Date: May 25, 2007.

For Further Information Contact: Larry A'Hearn, New York Airports District Office, (516) 227-3810.

Amendment to PFC Approvals

Amendment No. City, state | Amendment approved date | Original approved net PFC revenue | Amended approved net PFC revenue | Original estimated charge exp. date | Amended estimated charge exp. date
01-08-C-02-CMX Hancock, MI | 04/12/07 | $254,644 | $268,191 | 10/01/05 | 10/01/05
04-03-C-01-HGR Hagerstown, MD | 04/25/07 | 415,188 | 108,124 | 12/01/07 | 12/01/07
*03-05-C-01-MBS Saginaw, MI | 04/30/07 | 1,378,794 | 1,378,794 | 08/01/09 | 04/01/08
99-03-C-01-CIC Chico, CA | 05/08/07 | 89,300 | 25,000 | 02/01/01 | 02/01/01
04-08-C-02-RNO Reno, NV | 05/08/07 | 21,749,000 | 26,712,865 | 08/01/07 | 08/01/07
95-01-C-02-EAU Eau Claire, WI | 05/08/07 | 757,028 | 708,253 | 09/01/05 | 01/01/06
05-05-C-02-SJU San Juan, PR | 05/15/07 | 334,635,482 | 352,632,482 | 05/01/27 | 11/01/28
96-01-C-02-TRI Bristol, TN | 05/16/07 | 5,859,025 | 5,273,873 | 11/01/05 | 11/01/05
97-03-C-01-MSN Madison, WI | 05/17/07 | 2,305,000 | 2,340,000 | 12/01/99 | 12/01/99
98-04-C-02-JST Johnstown, PA | 05/18/07 | 628,121 | 496,121 | 10/01/06 | 01/01/07
97-03-C-06-DFW Dallas-Fort Worth, TX | 05/18/07 | 121,412,427 | 114,679,598 | 04/01/01 | 04/01/01
*99-02-C-01-TRI Bristo, TN | 05/24/07 | 5,829,873 | 5,247,633 | 08/01/13 | 03/01/12

Note: The amendments denoted by an asterisk (*) include a change to the PFC level charged from $3.00 per enplaned passenger to $4.50 per enplaned passenger. For Saginaw, MI and Bristol, TN, this change is effective on July 1, 2007.

Issued in Washington, DC on June 4, 2007.
Joe Hebert,
Manager, Financial Analysis and Passenger Facility Charge Branch.

[FR Doc. 07-2833 Filed 6-6-07; 8:45 am]

BILLING CODE 4910-13-M